DEPARTMENT OF HEALTH AND HUMAN SERVICES

Health Resources and Services Administration

Statement of Organization, Functions and Delegations of Authority

This notice amends Part R of the Statement of Organization Functions and Delegations of Authority of the Department of Health and Human Services (DHHS), Health Resources and Services Administration (HRSA) as last amended at (60 FR 56605, November 6, 1995 and most recently amended at 66 FR 35981, July 10, 2001).

This notice is to amend the functional statements for the Bureau of Health Professions and the Bureau of Primary Health Care. Specifically, this notice will move the functions of the Division of National Health Service Corps (RC5), the Division of Scholarships and Loan Repayment (RC6) and the Division of Shortage Designation (RC8) in the Bureau of Primary Health Care and place them in the Bureau of Health Professions. A statement outlining HRSA's reorganization aims is set forth at the end of this notice.

Section RP Function

A. Revise the functional statement for the Bureau of Health Professions (RP) as follows:

Bureau of Health Professions (RP)

Provides national leadership in coordinating, evaluating, and supporting the development and utilization of the Nation's health personnel. Specifically: (1) Assesses the Nation's health personnel supply and requirements and forecasts supply and requirements for future time periods under a variety of health resources utilization assumptions; (2) collects and analyzes data and disseminates information on the characteristics and capacities of the Nation's health personnel production systems; (3) proposes new or modifications to existing Departmental legislation, policies, and programs related to health personnel development and utilization; (4) develops, tests and demonstrates new and improved approaches to the development and utilization of health personnel within various patterns of health care delivery and financing systems; (5) provides financial support to institutions and individuals for health professions education programs; (6) administers Federal programs for targeted health personnel development and utilization; (7) provides leadership for promoting equity and diversity in access to health services and health careers for under-represented minority groups; (8) provides technical assistance, consultation, and special financial assistance to national, State, and local agencies, organizations, and institutions for the development, production, utilization, and evaluation of health personnel; (9) provides linkage between Bureau headquarters and HRSA Field Office activities related to health professions education and utilization by providing training, technical assistance, and consultation to Field Office staff; (10) coordinates with the programs of other agencies within the Department, and in other Federal Departments and agencies concerned with health personnel development and health care services; (11) provides liaison and coordinates with non-Federal organizations and agencies concerned with health personnel development and utilization; (12) in coordination with the Office of the Administrator, Health Resources and Services Administration, serves as a focus for technical assistance activities in the international aspects of health personnel development, including the conduct of special international projects relevant to domestic health personnel problems; (13) administers the National Vaccine Injury Compensation Program; (14) administers the National Practitioner Data Bank Program; (15) administers the Healthcare Integrity and Protection Data Bank Program; (16) administers the Ricky Ray Hemophilia Relief Fund Program; (17) administers the Children's Hospitals Graduate Medical Education (CHGME) Payment Program; (18) administers the National Health Service Corps Program which assures accessibility of health care in under-served areas; (19) plans the activities of the National Health Service Corps Advisory Council; (20) administers the Public Health Service Scholarship Training Program and the National Health Service Corps Scholarship Loan Repayment Program; and (21) administers the designation of health professional shortage areas and medically under-served populations.

B. Revise the functional statements for the Bureau of Primary Health Care (RC) as follows:

Bureau of Primary Health Care (RC)

Provides national leadership in developing, coordinating, evaluating, and assuring access to comprehensive preventive and primary health care services and improving the health status of the Nation's under-served and vulnerable populations. Specifically: (1) Assesses the Nation's health care needs of under-served populations; (2) assists communities in providing quality health care services, demonstrating new and improved approaches for providing access to health care and improved health care delivery, and creating new access through community development, expansion and partnerships; (3) administers the Consolidated Health Center Program; (4) develops comprehensive integrated systems of care for under-served communities and populations; (5) decreases health disparities through the targeting of resources to those populations at increased risk of negative health outcomes; (6) promotes the integration of primary care services with mental health, counseling and dental health services; (7) develops innovative strategies for serving special populations and difficult to serve sub-populations; (8) provides leadership for promoting equity, diversity, and cultural competency in access to health care services for under-served populations; (9) coordinates with other Federal agencies and various other organizations involved in health care access and utilization, integrated systems of care, and improvement of health status for under-served populations; (10) supports national, State, local, community, voluntary, public and private entities to help primary health care and health-related organizations meet the needs of vulnerable, under-served, and special populations; (11) provides policy leadership, programmatic direction and consultation for HRSA Field Office staff on activities related to community-based primary health care; (12) administers the Black Lung Clinics Program and the Native Hawaiian Health Systems Program; (13) provides leadership and direction for the National Hansen's Disease Program; (14) administers a national health care program in support of the Immigration and Naturalization Service; and (15) administers the Section 340B Drug Pricing Program.

C. Delete the Division of National Health Service Corps (RC5) in the Bureau of Primary Health Care and place the function in the Bureau of Health Professions

D. Delete the Division of Scholarship and Loan Repayment (RC6) in the Bureau of Primary Health Care and place the function in the Bureau of Health Professions

E. Delete the Division of Shortage Designation (RC8) in the Bureau of Primary Health Care and place the function in the Bureau of Health Professions

F. Establish the Division of National Health Service Corps (RPH) in the Bureau of Health Professions (RP)

Division of National Health Service Corps (RPH)

Provides (1) strategic planning and overall policy guidance, and program oversight to the National Health Service Corps (NHSC); (2) initiates national program and policy changes, including regulatory and statutory amendments, as necessary, to ensure NHSC consistency with evolving national health care policy; (3) supports the NHSC National Advisory Council (NAC), which advises the Secretary, DHHS, on national-health-care policy, particularly as it affects health-manpower issues and the NHSC; (4) works with the Office of the Administrator and the Office of the Secretary to ensure that the NAC member are nationally recognized leaders in national health-care-policy issues, and in their respective primary-health-care disciplines; (5) provides national NHSC leadership, integration and coordination with HRSA and other Departmental programs serving or impacting the Nation's under-served communities and populations; (6) works directly with Bureau, Agency, intra-Agency, Departmental, and inter-Departmental organizations and staffs, as appropriate, on national policies and strategies affecting underserved populations and the development and distribution of primary care clinical personnel; (7) speaks for NHSC with national, regional, State, and local public and private health-care-professional associations, universities and other health-professions training institutions and other groups whose public policy interests relate to primary-health-care manpower and access issues; (8) articulates NHSC policy interests and issues to a variety of national forums, including universities, foundations, think tanks, and other organizations whose interests in primary and other health-care public policy issues have potential for affecting the NHSC; (9) provides policy guidance and support to HRSA field offices; and (10) coordinates NHSC policy on primary and other health care manpower issues, and works with a wide variety of national, regional, State and local constituencies in ensuring their effective implementation.

G. Establish the Division of Scholarships and Loan Repayments (RPI) in the Bureau of Health Professions (RP)

Division of Scholarships and Loan Repayments (RPI)

Responsible for the administration of the Public Health Service Scholarship Training Program and the National Health Service Corps (NHSC) Scholarship Program. Specifically: (1) directs and administers these programs, including the recruitment, application, selection and awarding of scholarship funds and deferment and service monitoring systems in close coordination with the NHSC; (2) develops and implements program plans and policies and operating and evaluation plans and procedures; (3) monitors obligatory service requirements and conditions of deferment for compliance; (4) provides guidance and technical assistance for field office and educational institutions on the NHSC scholarship program; (5) maintains liaison with, and provides assistance to, program-related public and private professional organizations and institutions; (6) maintains liaison with the Office of the General Counsel and the Office of the Inspector General, DHHS; (7) coordinates financial aspects of programs with educational institutions; (8) develops program data needs, formats and reporting requirements including collection, collation, analysis and dissemination of data; and (9) participates in the development of forward plans, legislative proposals and budgets.

H. Establish the Division of Shortage Designation (RPJ) in the Bureau of Health Professions (RP)

Division of Shortage Designation (RPJ)

The Office of the Director, provides national and Division-wide direction, leadership, and perspective in the effective management of the designation of health professional shortage areas and medically-under-served populations. Specifically: (1) Maintains and enhances the Agency's critical role in the Nation's efforts to address equitable health-professional distribution and access to health care for under-served populations; (2) encourages and fosters an ongoing, positive working relationship with other Federal, State and private sector partners; (3) approves designation requests performed by the Training and Community Support Branch (TACSB), finalizing designation policies and procedures for both current and proposed designation criteria; and (4) negotiates and approves State designation agreements (e.g., use of databases, population estimates, Statewide Rational Service Areas, etc.).

Section RF-30 Delegation of Authority

All delegations of authority which were in effect immediately prior to the effective date hereof have been continued in effect in them or their successors pending further re-delegation. I hereby ratify and affirm all actions taken by any DHHS official which involved the exercise of these authorities prior to the effective date of this delegation.

This reorganization is effective upon the date of signature.

Dated: July 31, 2001.
Elizabeth M. Duke,
Acting Administrator.

HRSA Reorganization Aims at Better Coordination for Health Professions Programs, Improved Support for Multi-Year Expansion of Community Health Centers

Overview: The Health Resources and Services Administration (HRSA) has announced reorganization of some functions in order to improve its ability to deliver quality primary and preventive health care to needy Americans, through better coordination of its health professions programs, and through increased focus and resources for Community Health Centers.

HRSA Mission

The U.S. Department of Health and Human Services' Health Resources and Services Administration (HRSA) supports a community-based network of quality primary and preventive health care services that form the foundation of the nation's health care safety net. Currently, millions of Americans lack quality health care because they have no insurance or cannot afford the care they require. HRSA's mission is to expand the nation's capacity to provide access to health care for all Americans.

To fulfill this mission, HRSA supports some 3,200 Community Health Centers and affiliated clinics nationwide and oversees their operation. President Bush has proposed to expand this function significantly over the next five years. HRSA also helps educate sufficient numbers of health care professionals and places them where the need for their services is greatest.

HRSA's Bureau of Primary Health Care is responsible for funding and oversight of the community health center network, while the Bureau of Health Professions is responsible for programs that attract, prepare, fund, distribute and retain a diverse health professions workforce in medically underserved areas.

Current Structure

Under HRSA's current structure, the Bureau of Primary Health Care has included three divisions that deal with issues, which actually fall within the Bureau of Health Professions' normal range of responsibilities:

• Division of the National Health Service Corps, which recruits health professionals into the National Health Service Corps and matches them with communities in Health Professional Shortage Areas;

• Division of Scholarships and Loan Repayments, which manages the National Health Service Corps' scholarship and loan repayments programs; and the

• Division of Shortage Designation, which reviews applications received from states for Health Professional Shortage Areas and Medically Underserved Areas/Populations and designates communities that meet program criteria.

Reorganization

HRSA's reorganization plan will transfer these three divisions from the Bureau of Primary Health Care to the Bureau of Health Professions. This will allow HRSA to streamline and rationalize its organization by placing within a single bureau the entire spectrum of recruitment, training, loan, scholarship and placement programs for health professionals.

At the same time, the reorganization will enable the Bureau of Primary Health Care to focus on the proposed rapid expansion of direct health care services for Americans without access to care. President Bush's proposed increases in Community Health Centers would double the number of persons served by the centers.

• The consolidation of HRSA's health professions programs within the Bureau of Health Professions will increase the internal coordination needed to ensure that the right number of health care professionals serve in the right communities. It will allow the bureau to offer a “menu of options” for health professionals' development through both the National Health Service Corps and the Public Health Service Act's Title VII and VIII programs.

• The restructuring also will give the Bureau of Health Professions responsibility for President Bush's proposed National Health Service Corps Presidential Management Reform Initiative. Designed to improve the Corps' service to America's neediest communities, the reform initiative will examine several issues, including the ratio of scholarships to loan repayments and other set-asides, and will consider amending the Health Professional Shortage Area definition to include non-physician providers and J-1 and H-1C visa providers practicing in communities. These efforts will enable the NHSC to more accurately define shortage areas and target placements to areas of greatest need.

• The reorganization will allow the Bureau of Primary Health Care to focus its staff and resources on its core responsibility—the Community Health Centers program. This increased focus is essential because President Bush's proposed Health Centers Presidential Initiative intends to increase the number of Community Health Center access sites over the next five years by 1,200—from 3,200 to 4,400. This planned increase will allow HRSA-funded centers and clinics to double the number of people they serve annually to 22 million. Most of these people have no health insurance.

[FR Doc. 01-19628 Filed 8-6-01; 8:45 am]

BILLING CODE 4165-15-P